DEPARTMENT OF ENERGY

Federal Energy Regulatory Commission

[Docket Nos. CP17-494-000; CP17-495-000]

Pacific Connector Gas Pipeline LP, Jordan Cove Energy Project LP; Notice of Schedule for Environmental Review Pacific Connector Pipeline Project and Jordan Cove Energy Project

On September 21, 2017, Pacific Connector Gas Pipeline LP (Pacific Connector) and Jordan Cove Energy Project L.P. (Jordan Cove) filed applications in Docket Nos. CP17-494-000 and CP17-495-000, respectively. Pacific Connector is requesting a Certificate of Public Convenience and Necessity pursuant to Section 7(c) of the Natural Gas Act (NGA) to construct, operate, and maintain certain natural gas pipeline facilities. Jordan Cove is requesting authorization pursuant to Section 3(a) of the NGA to construct and operate liquefied natural gas (LNG) export facilities. The proposed projects are collectively referred to as the Jordan Cove LNG Project (Project). Jordan Cove's LNG facilities would be designed to liquefy about 7.8 million metric tons of natural gas per annum for export to markets across the Pacific Rim. On August 20, 2015, in Order No. 3698, the U.S. Department of Energy, Office of Fossil Energy, granted to Jordon Cove a long-term, multi-contract authorization to export LNG to Free Trade Agreement nations.

On October 5, 2017, the Federal Energy Regulatory Commission (FERC or Commission) issued a Notice of Applications for the Projects. Among other things, that notice alerted other agencies issuing federal authorizations of the requirement to complete all necessary reviews and to reach a final decision on the request for a federal authorization within 90 days of the date of issuance of the Commission staff's final Environmental Impact Statement (EIS) for the Projects. This instant notice identifies the FERC staff's planned schedule for completion of the final EIS for the Projects, which is based on an issuance of the draft EIS in February 2019. The forecasted schedule for both the draft and final EIS is based upon Jordon Cove and Pacific Connector providing complete and timely responses to any future data requests. In addition, the schedule assumes that the cooperating agencies will provide input on their areas of responsibility on a timely basis.

Schedule for Environmental Review

Issuance of Notice of Availability of the final EIS—August 30, 2019

90-Day Federal Authorization Decision Deadline—November 28, 2019

If a schedule change becomes necessary for the final EIS, an additional notice will be provided so that the relevant agencies are kept informed of the Project's progress.

Project Description

Jordan Cove proposes to construct and operate an LNG export terminal on the North Spit of Coos Bay in Coos County, Oregon. The terminal would include five liquefaction trains and associated equipment, two full-containment LNG storage tanks, an LNG transfer line, LNG ship loading facilities, a marine slip, access channel, and modifications to the Coos Bay Navigation Channel.

Pacific Connector proposes to construct and operate an approximately 230-mile-long, 36-inch-diameter interstate natural gas transmission pipeline and associated aboveground facilities. The pipeline would originate near Malin in Klamath County, Oregon, traverse Douglas and Jackson Counties, and terminate (at the LNG Terminal) in Coos County. The associated aboveground facilities would include the new Klamath Compressor Station (62,200 horsepower) near Malin.

Background

On February 10, 2017, the Commission staff granted Jordan Cove and Pacific Connector's requests to use the FERC's Pre-filing environmental review process and assigned them jointly to Docket No. PF17-4-000. On June 9, 2017, the Commission issued a Notice of Intent to Prepare an Environmental Impact Statement for the Planned Jordan Cove LNG Terminal and Pacific Connector Pipeline Projects, Request for Comments on Environmental Issues, and Notice of Public Scoping Sessions (NOI).

The NOI was issued during the pre-filing review of the Projects in Docket No. PF17-4-000 and was sent to federal, state, and local government agencies; elected officials; affected landowners; environmental and public interest groups; Native American tribes and regional organizations; commentors and other interested parties; and local libraries and newspapers. Major issues raised during scoping include purpose and need, property rights, use of eminent domain, reliability and safety, cumulative impacts, cultural resources, threatened and endangered species, water resources, vegetation, and alternatives.

The U.S. Forest Service, Bureau of Land Management, Bureau of Reclamation, U.S. Army Corps of Engineers, U.S. Coast Guard, U.S. Environmental Protection Agency, U.S. Fish and Wildlife Service, National Marine Fisheries Service, U.S. Department of Energy, Pipeline and Hazardous Materials Safety Administration, and the Coquille Indian Tribe are cooperating agencies in the preparation of the EIS.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP17-494 and/or CP17-495), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 31, 2018.
Nathaniel J. Davis, Sr.,
Deputy Secretary.

[FR Doc. 2018-19403 Filed 9-6-18; 8:45 am]

BILLING CODE 6717-01-P